DEPARTMENT OF HEALTH AND HUMAN SERVICES

Centers for Disease Control and Prevention

[CDC-2022-0066; Docket Number NIOSH-346]

Draft National Institute for Occupational Safety and Health (NIOSH) Healthcare Personal Protective Technology (PPT) Targets for 2020 to 2030; Extension of Comment Period

AGENCY: Agency: The Centers for Disease Control and Prevention (CDC), Department of Health and Human Services (HHS).

ACTION: Extension of public comment period.

SUMMARY: The National Institute for Occupational Safety and Health (NIOSH) in the Centers for Disease Control and Prevention (CDC), an Operating Division of the Department of Health and Human Services (HHS), announces the extension of the comment period to obtain public comment on draft personal protective technology (PPT) targets for 2020 to 2030.

DATES: The comment period is extended through August 31, 2022.

ADDRESSES: You may submit comments, identified by CDC-2022-0066 and docket number NIOSH-346, by either of the following two methods:

• Federal eRulemaking Portal: https://www.regulations.gov. Follow the instructions for submitting comments.

• Mail: National Institute for Occupational Safety and Health, NIOSH Docket Office, 1090 Tusculum Avenue, MS C-34, Cincinnati, Ohio 45226-1998.

FOR FURTHER INFORMATION CONTACT: Dr. Susan M. Moore, NIOSH NPPTL, Building 141, 626 Cochrans Mill Road, Pittsburgh, PA 15236; Telephone: 412-386-6111.

SUPPLEMENTARY INFORMATION: On May 16, 2022, NIOSH published a notice in the Federal Register (87 FR 29748) announcing a draft document entitled Draft NIOSH Healthcare Personal Protective Technology (PPT) Targets for 2020 to 2030 available for public comment. Written comments were to be received by July 15, 2022. In response to a request from the public, NIOSH is extending the public comment period to August 31, 2022.

John J. Howard,
Director, National Institute for Occupational Safety and Health, Centers for Disease Control and Prevention.

[FR Doc. 2022-15084 Filed 7-13-22; 8:45 am]

BILLING CODE 4163-18-P